DEPARTMENT OF LABOR

Employment and Training Administration

[TA-W-60,793]

Weyerhaeuser Company, Aberdeen, WA; Notice of Termination of Investigation

Pursuant to Section 221 of the Trade Act of 1974, an investigation was initiated on January 19, 2007, in response to a petition filed by the United Brotherhood of Carpenters Industrial Union on behalf of workers at Weyerhaeuser Company, Aberdeen, Washington.

This petitioning group of workers is covered by an active certification, (TA-W-58,442) that expires on January 25, 2008. Since the Department of Labor recently discovered that the workers are not separately identifiable by product line the Department of Labor amended on January 23, 2007 certification to include all workers of Weyerhaeuser Company, Aberdeen, Washington engaged in the production of softwood dimensional lumber. Consequently, further investigation in this case would duplicate efforts and serve no purpose; therefore the investigation has been terminated.

Signed in Washington, DC, this 26th day of February 2007.
Elliott S. Kushner,
Certifying Officer, Division of Trade Adjustment Assistance.

[FR Doc. E7-4064 Filed 3-7-07; 8:45 am]

BILLING CODE 4510-FN-P